DEPARTMENT OF COMMERCE

National Oceanic and Atmospheric Administration

[I.D. 011701D]

Caribbean Fishery Management Council; Public Meeting

AGENCY: National Marine Fisheries Service (NMFS), National Oceanic and Atmospheric Administration (NOAA), Commerce.

ACTION: Notice of public meeting.

SUMMARY: The Caribbean Fishery Management Council (Council) will hold a meeting.

DATES: The meeting will be held on February 21, 2001, from 1 p.m. until 5 p.m. The closed session will take place after 5 p.m.

ADDRESSES: The meeting will be held at the Wyndham Sugar Bay Beach Club and Resort, 6500 Estate Smith Bay, St. Thomas, U.S.V.I.

FOR FURTHER INFORMATION CONTACT: Caribbean Fishery Management Council, 268 Muñoz Rivera Avenue, Suite 1108, San Juan, Puerto Rico 00918-2577; telephone: (787) 766-5926.

SUPPLEMENTARY INFORMATION: The Council will hold its 103rd regular public meeting to discuss the items contained in the following agenda:

Call to Order

Adoption of Agenda

Consideration of 102nd Council Meeting Summary Minutes

Presentation on Proposed Marine Protected Areas and Parks for the U.S.V.I.

Dolphin/Wahoo Fishery Management Plan Final Action

Queen Conch FMP Amendment - Proposed Rule

Other Business

Next Council Meeting

Closed Session for Administrative Matters

The meeting is open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. For more information or request for sign language interpretation and/other auxiliary aids, please contact Mr. Miguel A. Rolón, Executive Director, Caribbean Fishery Management Council,(see FOR FURTHER INFORMATION CONTACT) at least 5 days prior to the meeting date.

Dated: January 22, 2001.
Richard W. Surdi,
Acting Director, Office of Sustainable Fisheries, National Marine Fisheries Service.

[FR Doc. 01-2413 Filed 1-29-01; 8:45 am]

BILLING CODE 3510-22-S